DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Export Administration (BXA).

Title: Procedures for Acceptance or Rejection of Rated Order.

Agency Form Number: None.

OMB Approval Number: 0694-0092.

Type of Request: Extension of a currently approved collection of information.

Burden: 21,963 hours.

Average Time Per Response: 1 to 15 minutes per response.

Number of Respondents: 18,000 respondents.

Needs and Uses: Because timely delivery or performance is critical under the Defense Priorities Allocation System, the information is used by the customer who placed the rated order with a supplier to help track the status of the rated order from initial receipt by the supplier to its shipment or performance of the needed goods or services. It also would be used by the Department of Defense and its associated agencies, the Department of Energy, and the Department of Commerce, as part of the information required to provide assistance to the customer in the event that the supplier can not or will not make timely delivery or performance of the needed goods or services.

Affected Public: Individuals, businesses or other for-profit institutions.

Respondent's Obligation: Required to obtain or retain benefits.

OMB Desk Officer: David Rostker.

Copies of the above information collection proposal can be obtained by calling or writing Madeleine Clayton, DOC Paperwork Clearance Officer, (202) 482-3129, Department of Commerce, Room 6086, 14th and Constitution Avenue, NW., Washington, DC 20230.

Written comments and recommendations for the proposed information collection should be sent within 30 days of publication of this notice to David Rostker, OMB Desk Officer, Room 10202, New Executive Office Building, Washington, DC 20230.

Dated: August 21, 2001.
Madeleine Clayton,
Departmental Paperwork Clearance Officer, Office of the Chief Information Officer.

[FR Doc. 01-21506 Filed 8-23-01; 8:45 am]

BILLING CODE 3510-JT-P